DEPARTMENT OF HOMELAND SECURITY

Federal Emergency Management Agency

[Docket ID FEMA-2008-0010]

National Fire Academy Board of Visitors

AGENCY: Federal Emergency Management Agency, DHS.

ACTION: Notice of cancellation of meeting.

SUMMARY: The National Fire Academy Board of Visitors public teleconference meeting scheduled for August 2, 2010 is cancelled.

FOR FURTHER INFORMATION CONTACT: Teressa Kaas, 16825 South Seton Avenue, Emmitsburg, Maryland 21727, telephone (301) 447-1117, fax (301) 447-1173, and e-mail teressa.kaas@dhs.gov.

SUPPLEMENTARY INFORMATION: The Federal Emergency Management Agency (FEMA) published a Notice in the Federal Register on July 9, 2010 (75 FR 39561) announcing a National Fire Academy Board of Visitors public teleconference meeting on August 2, 2010. The meeting is cancelled. If the meeting is rescheduled, FEMA will publish a Notice in the Federal Register announcing the new date for the meeting.

Dated: July 20, 2010.
Denis G. Onieal,
Acting Deputy United States Fire Administrator, United States Fire Administration, Federal Emergency Management Agency.

[FR Doc. 2010-18454 Filed 7-27-10; 8:45 am]

BILLING CODE 9111-45-P